DEPARTMENT OF ENERGY

Federal Energy Regulatory Commission

Notice of Application for Non-Project Use of Project Lands and Waters and Soliciting Comments, Motions To Intervene, and Protests

August 31, 2006.

Take notice that the following application has been filed with the Commission and is available for public inspection:

a. Application Type: Request to Amendment Project License (Recreation Plan).

b. Project No.: 405-071.

c. Date Filed: July 28, 2006.

d. Applicant: Susquehanna Power Company and PECO Energy Power Company.

e. Name of Project: Conowingo Hydroelectric Project.

f. Location: The proposed action will take place at the Conowingo Hydroelectric Project on the Susquehanna River, which is located in Harford and Cecil Counties, Maryland and Lancaster and York Counties, Pennsylvania.

g. Filed Pursuant to: Federal Power Act, 16 U.S.C. 791(a)-825(r) and §§ 799 and 801.

h. Applicant Contact: Mr. Brian J. McManus, Jones Day, 51 Louisiana Avenue, NW., Washington DC 20001-1700, (202) 879-5452.

i. FERC Contact: Any questions on this notice should be addressed to Brian Romanek at (202) 502-6175, or by e-mail: Brian.Romanek@ferc.gov.

j. Deadline for filing comments and or motions: October 2, 2006..

All documents (original and eight copies) should be filed with: Ms. Magalie R. Salas, Secretary, Federal Energy Regulatory Commission, 888 First Street, NE., Washington, DC 20426. Please include the project number (P-405-071) on any comments or motions filed. Comments, protests, and interventions may be filed electronically via the Internet in lieu of paper. See, 18 CFR 385.2001(a)(1)(iii) and the instructions on the Commission's Web site under the “e-Filing” link. The Commission strongly encourages e-filings.

k. Description of Request: The licensee is requesting that the Commission amend the approved project recreation plan (plan) by: (1) Deleting the provision in the plan requiring the licensees to allow public fishing on the galley (catwalk), which is located on the downstream face of the powerhouse; (2) adding to the plan a provision that allows the licensee to construct a new boardwalk along the west side of the river in Harford County, immediately below the powerhouse and make certain other modifications to the public access area at Fisherman's Park; (3) adding to the plan a provision that allows the licensee to make public access enhancements below the dam on the east side of the river in Cecil County including shoreline fishing opportunities on Octarora Creek, from Md. 222 to the confluence of Octarora Creek and the Susquehanna River; and (4) opening more project land for public recreational use downstream of the dam.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-14955 Filed 9-8-06; 8:45 am]

BILLING CODE 6717-01-P